POSTAL REGULATORY COMMISSION

39 CFR Part 3050

[Docket No. RM2018-1; Order No. 5004]

Periodic Reporting

AGENCY: Postal Regulatory Commission.

ACTION: Proposed rulemaking.

SUMMARY: The Commission is proposing rules that require the Postal Service to provide information about cost and service issues affecting flat-shaped mail (flats). The Commission intends to analyze this information over time to identify trends and measurable goals that will lead to the development of a plan to improve these cost and service issues. The Commission invites public comment on the proposed rules. For additional information, Order No. 5004 can be accessed electronically through the Commission's website at https://www.prc.gov.

DATES: Comments are due: April 5, 2019.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Background

II. Basis and Purpose of Proposed Rules

III. Proposed Rules

I. Background

The Commission initiated this proceeding to explore potential enhancements to the Postal Service's data systems and to facilitate the development of consistent reporting requirements to measure, track, and report cost and service performance issues related to flats. To better understand the data collected by the Postal Service related to flats and to determine if the data can estimate cost and service impacts, the Commission issued two information requests and a notice of inquiry.

II. Basis and Purpose of Proposed Rules

Based on the information received from the Postal Service and the public, the Commission proposes specific reporting requirements to facilitate measuring and tracking cost and service issues related to flats. The Postal Service will be required to annually file data at the national, and facility level (when specified). These reporting requirements are designed to provide sufficient information to improve transparency into the cost and service issues associated with flats. In addition, the proposed requirements will increase the accountability of the Postal Service related to operational initiatives related to flats.

The proposed reporting requirements seek information readily available and previously provided or proposed by the Postal Service, based on filings by the Postal Service in the Fiscal Year (FY) 2015 Annual Compliance Determination (ACD), the FY 2016 ACD, the FY 2017 ACD, and Docket No. RM2018-1. The proposed requirements simply require the information to be provided in a more organized way and at regular intervals. The information falls into four categories: (1) Analysis of consolidated cost and service data; (2) analysis of costs by operationally relevant groupings; (3) analysis of data related to individual pinch points; and (4) analysis to estimate the impact of operational changes.

The Commission is not proposing any specific enhancements to the Postal Service's underlying data systems at this time, but as the Commission becomes more familiar with these data reports, it may do so. However, to ensure transparency on data enhancements implemented internally by the Postal Service, the Commission proposes that the Postal Service provide an annual narrative discussing any planned data enhancements.

III. Proposed Rules

The Commission proposes to place the reporting requirements for flat-shaped mail in a new section in 39 CFR part 3050.

List of Subjects for 39 CFR Part 3050

Administrative practice and procedure, Postal Service.

For the reasons stated in the preamble, the Commission proposes to amend chapter III of title 39 of the Code of Federal Regulations as follows:

PART 3050—PERIODIC REPORTING

1. The authority citation for part 3050 continues to read as follows:

Authority: 39 U.S.C. 503, 3651, 3652, 3653.

2. Add § 3050.50 to read as follows:

§ 3050.50 Information pertaining to cost and service for flat-shaped mail

(a) The reports in paragraphs (b) through (f) of this section shall be filed with the Commission at the times indicated.

(b) Within 90 days after the end of each fiscal year, the Postal Service shall file a financial report that analyzes data from the fiscal year for all mail products that consist of more than 80 percent flat-shaped mail. At a minimum, the report shall include:

(1) Volume and shape workpapers that identify products that contain more than 80 percent flat-shaped mail (flat-shaped products).

(2) Unit attributable cost estimate workpapers for each flat-shaped product that is disaggregated into the following cost categories: mail processing unit cost, delivery unit cost, vehicle service driver unit cost, purchased transportation unit cost, window service unit cost, and other unit cost.

(3) A narrative that explains the methodology used to calculate the unit attributable cost categories described in paragraph (b)(2) of this section.

(4) A narrative supported by workpapers that identifies any flat-shaped product where unit attributable cost increases were greater than the change in unit market dominant attributable cost for the same fiscal year. The narrative must include identification of cost categories driving above average change in unit attributable cost for flat-shaped product and a specific plan to reduce unit attributable cost for identified flat-shaped product.

(5) An analysis of volume trends, and mail mix for flat-shaped products, which includes, at a minimum, a comparison of:

(i) the aggregate unit attributable costs for flat-shaped products for the current fiscal year, and

(ii) the calculated estimate of aggregate unit attributable costs for flat-shaped products for the current fiscal year, using the previous fiscal year's volume distribution. In addition, a narrative that identifies drivers of changes in volume trends and mail mix.

(6) An analysis of the Flat Sequencing System (FSS), which includes, at a minimum, the percent of flat-shaped mail destinating in a FSS zone that were not finalized on FSS equipment, the cost of processing flat-shaped mail on the FSS, the delivery point sequence (DPS) percentage of FSS mail. In addition, a narrative that identifies drivers of changes in the analysis between fiscal years.

(7) A manual processing analysis, which includes, at a minimum, the cost of manually processing flat-shaped mail, the percent of flat-shaped mail that were manually processed, and the percent of flat-shaped mail that were entered at automation prices. In addition, a narrative that identifies drivers of changes in the analysis between fiscal years.

(8) An estimate, with supporting workpapers, of the cost impact of bundle processing on flat-shaped products for the fiscal year. If no estimate available, provide a timeline to estimate the cost impact of bundle processing on flat-shaped products.

(9) An estimate, with supporting workpapers, of the cost impact of low productivity on automated equipment on flat-shaped products for the fiscal year. If no estimate available, provide a timeline to estimate the cost impact of low productivity on automated equipment on flat-shaped products.

(10) An estimate, with supporting workpapers, of the cost impact of manual processing on flat-shaped products for the fiscal year. If no estimate available, provide a timeline to estimate the cost impact of manual processing on flat-shaped products.

(11) An estimate, with supporting workpapers, of the cost impact of allied operations on flat-shaped products for the fiscal year. If no estimate available, provide a timeline to estimate the cost impact of allied operations on flat-shaped products.

(12) An estimate, with supporting workpapers, of the cost impact of transportation on flat-shaped products for the fiscal year. If no estimate available, provide a timeline to estimate the cost impact of transportation on flat-shaped products.

(13) An estimate, with supporting workpapers, of the cost impact of last mile/delivery on flat-shaped products for the fiscal year. If no estimate available, provide a timeline to estimate the cost impact of last mile/delivery on flat-shaped products.

(c) Within 90 days after the end of each fiscal year, the Postal Service shall file a service report that analyzes data from the fiscal year for all mail products that consist of more than 80 percent flat-shaped mail. At a minimum, the analysis must include:

(1) Service performance scores for all flat-shaped products.

(2) An estimate, with supporting workpapers, of the service impact of bundle processing on flat-shaped products for the fiscal year. If no estimate available, provide a timeline to estimate the service impact of bundle processing on flat-shaped products.

(3) An estimate, with supporting workpapers, of the service impact of low productivity on automated equipment on flat-shaped products for the fiscal year. If no estimate available, provide a timeline to estimate the service impact of low productivity on automated equipment on flat-shaped products.

(4) An estimate, with supporting workpapers, of the service impact of manual processing on flat-shaped products for the fiscal year. If no estimate available, provide a timeline to estimate the service impact of manual processing on flat-shaped products.

(5) An estimate, with supporting workpapers, of the service impact of allied operations on flat-shaped products for the fiscal year. If no estimate available, provide a timeline to estimate the service impact of allied operations on flat-shaped products.

(6) An estimate, with supporting workpapers, of the service impact of transportation on flat-shaped products for the fiscal year. If no estimate available, provide a timeline to estimate the service impact of transportation on flat-shaped products.

(7) An estimate, with supporting workpapers, of the service impact of last mile/delivery on flat-shaped products for the fiscal year. If no estimate available, provide a timeline to estimate the service impact of last mile/delivery on flat-shaped products.

(d) Within 90 days after the end of each fiscal year, the Postal Service shall file an analysis of costs by operationally relevant grouping from FY 2013 to present.

(1) The report shall utilize fiscal year data filed in accordance with § 3050.22, and § 3050.28(c) and (d) and any other data necessary to complete the analysis.

(2) The report shall also include a narrative that explains the methodology used to calculate costs by operationally relevant grouping.

(e) Within 90 days after the end of each fiscal year, the Postal Service shall file the following reports that include data by both quarter and fiscal year, as well as at the national level and at the facility level unless otherwise specified. The reports shall include, at a minimum, five years of quarterly historical fiscal year data including the current fiscal year.

(1) Bundle Breakage Visibility Reports which include, at a minimum, number of bundles processed, number of bundles processed by class, product, facility, and machine type, number of broken bundles; and number of broken bundles by class, product, facility, and machine type.

(2) Mail Processing Variance Reports, which include, at a minimum, for each machine type that process flat-shaped mail: category, plant/facility, volume, actual workhours, earned workhours (target hours), productivity, variance, and percent achieved, and target productivities, including narrative that explains methodology used to develop target.

(3) eFlash Report, which includes, at a minimum manual letter and flats volume, manual letter and flats workhours, manual letter and flats cost analysis, manual letter and flats handling time, and manual letter and flats handling cost per piece.

(4) Work in Process metrics, which include, at a minimum, measurement of: unload scan to bundle sorter scan, unload scan to tray mechanization scan, bundle sorter scan to mail processing equipment piece scan, tray mechanization scan to next automation scan, and unload scan to first automation scan.

(5) First-Class Mail Root Cause Point Impact Report, which includes, at a minimum, root cause, shape, service standard, point impact, rank, results attributed to air transit Automated Area Distribution Center (AADC)/Area Distribution Center (ADC) processing delays, and results attributed to surface transit AADC/ADC processing delays.

(6) SVWeb Report, which includes, at a minimum, on-time departure percentage, on-time arrival percentage, space utilization type by container type, average load percentage, total number of late containers, misrouted containers based on unload scans at unexpected site, National Performance Assessment (NPA) goals, goal achievement, the total score for six required scans, trips on time, space utilization targets, and comparison of fiscal year space utilization to targets.

(7) Last Mile Impact Report, which includes, at a minimum, overall on-time score, on-time score at last processing, and last mile impact for all flat-shaped products at each service standard.

(8) For each report listed in paragraphs (e)(1) through (e)(7) of this section, the Postal Service shall provide a narrative that describes any changes made to underlying data systems during the fiscal year that impact the methodology used to produce the report.

(9) For each report listed in paragraphs (e)(1) through (e)(7) of this section, the Postal Service shall provide a narrative that discusses trends, changes, and reasons for any changes in data within the report.

(f) Within 90 days after the end of each fiscal year, the Postal Service shall file a report that identifies all national operational changes and/or initiatives that occurred during the fiscal year related to flat-shaped mail and all planned national operational changes and/or initiatives for the next fiscal year related to flat-shaped mail. The operational changes and/or initiatives should be designed to improve operations related to flat-shaped mail, reduce the cost of flat-shaped mail, and/or improve the service of flat-shaped mail.

(1) The report shall identify data from paragraphs (b), (c), (d), and/or (e) of this section that will be impacted by each operational change/initiative.

(2) The report shall also include an estimate, with supporting workpapers, of the impact of each operational change/initiative on the data selected in paragraph (f)(1) of this section.

(g) Within 90 days after the end of each fiscal year, the Postal Service shall file a report that identifies all data enhancements that occurred during the fiscal year related to data systems that affect flat-shaped mail. The data enhancements should be designed to improve measuring, tracking, and/or reporting on flat-shaped mail cost and service issues.

By the Commission.
Stacy L. Ruble,
Secretary.

[FR Doc. 2019-04017 Filed 3-5-19; 8:45 am]

BILLING CODE 7710-FW-P